SOCIAL SECURITY ADMINISTRATION

Privacy Act of 1974; as Amended; New System of Records and New Routine Use Disclosures

AGENCY: Social Security Administration (SSA).

ACTION: Proposed New System of Records and Proposed Routine Uses.

SUMMARY: In accordance with the Privacy Act (5 U.S.C. 552a(e)(4) and (e)(11)), we are issuing public notice of our intent to establish a new system of records entitled Reasonable Accommodation for Persons With Disabilities (RAPD) System, 60-0315, and routine uses applicable to this system of records. Hereinafter, we will refer to the proposed system of records as the RAPD System. The proposed system of records will consist of information used to provide reasonable accommodations to qualified employees on the basis of disability, the disposition of the requests and the reasonable accommodations provided. We invite public comments on this proposal.

DATES: We filed a report of the proposed new system of records and proposed routine use disclosures with the Chairman of the Senate Committee on Homeland Security and Governmental Affairs, the Chairman of the House Committee on Government Reform, and the Director, Office of Information and Regulatory Affairs, Office of Management and Budget (OMB) on October 19, 2005. The proposed system of records and routine uses will become effective on November 28, 2005, unless we receive comments warranting it not to become effective.

ADDRESSES: Interested individuals may comment on this publication by writing to the Executive Director, Office of Public Disclosure, Office of the General Counsel, Social Security Administration, 3-A-6 Operations Building, 6401 Security Boulevard, Baltimore, Maryland 21235-6401. All comments received will be available for public inspection at the above address.

FOR FURTHER INFORMATION CONTACT: Edie McCracken, Social Insurance Specialist, Office of Public Disclosure, Office of the General Counsel, Social Security Administration, Suite 1500 Dunleavy Building, 6401 Security Boulevard, Baltimore, Maryland 21235, e-mail address at edie.mccracken@ssa.gov, or by telephone at (410) 965-6117.

SUPPLEMENTARY INFORMATION:

I. Background and Purpose of the Proposed New System of Records Entitled the RAPD System

A. General Background

The Rehabilitation Act of 1973, as amended, prohibits certain employers from discriminating based on disability. Section 501 of the Rehabilitation Act (29 U.S.C. 791) applies to Federal agencies and requires that agencies provide reasonable accommodation to qualified employees or applicants with disabilities. Executive Order (E.O.) 13164 requires that Federal agencies establish written procedures to facilitate the provision of reasonable accommodation. An accommodation is a change in the work environment or in the way things are customarily done that would enable a qualified individual with a disability to enjoy equal employment opportunities. There are three categories of reasonable accommodations:

• Modifications or adjustments to a job application process for a qualified individual with a disability to be considered for a job (such as providing application forms in alternative formats like large print or Braille);

• Modifications or adjustments necessary to enable a qualified individual with a disability to perform the essential functions of the job (such as providing sign language interpreters); and

• Modifications or adjustments that enable qualified employees with disabilities to enjoy equal benefits and privileges of employment (such as removing physical barriers in an office or cafeteria).

The SSA will process requests for reasonable accommodations and, where appropriate, provide reasonable accommodations to qualified employees and applicants for employment in a prompt, fair and efficient manner.

B. Collection and Maintenance of the Data for the Proposed New System of Records Entitled the RAPD System

SSA will collect and maintain the information that will be housed in the RAPD System from employees who have requested reasonable accommodation from SSA officials.

The information maintained in this system of records will be maintained in manual and electronic formats and will include information on all reasonable accommodation requests made by employees. Specifically, it will contain: (1) The employee's name, Social Security number (SSN), medical information collected in the process, number and type of requests made, whether those requests have been granted or denied; (2) the jobs (occupational series, grade level, and Agency component) for which reasonable accommodations have been requested; (3) the types of reasonable accommodations that have been requested for each of those jobs; (4) the number and types of reasonable accommodation requests for each job, by Agency component, that have been approved, and the number and types denied; (5) the number and types of requests that relate to the benefits or privileges of employment, and whether those requests have been granted or denied; (6) reasons for denial; (7) amount of time to process each request; and (8) sources of technical assistance that have been consulted in identifying possible requests. We will retrieve information from the proposed system of records by using the employee's name and/or SSN. Thus, the RAPD System will constitute a system of records under the Privacy Act.

II. Proposed Routine Use Disclosures of Data Maintained in the Proposed RAPD System

A. Proposed Routine Use Disclosures

We are proposing to establish routine uses of information that will be maintained in the proposed RAPD System as discussed below.

1. To the Office of the President for the purpose of responding to an individual pursuant to an inquiry received from that individual or from a third party on his or her behalf.

We will disclose information under this routine use only in situations in which an individual may contact the Office of the President, seeking that Office's assistance in a matter relating to information contained in this system of records. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to information contained in this system of records. Information will be disclosed when the congressional representative makes an inquiry and indicates that he or she is acting on behalf of the individual whose record is requested.

3. To the Department of Justice (DOJ), a court or other tribunal, or another party before such tribunal when:

(a) SSA, or any component thereof; or

(b) Any SSA employee in his/her official capacity; or

(c) Any SSA employee in his/her individual capacity where DOJ (or SSA where it is authorized to do so) has agreed to represent an employee; or

(d) The United States or any agency thereof where SSA determines that the litigation is likely to affect the operation of SSA or any of its components, is party to litigation or has an interest in such litigation, and SSA determines that the use of such records by DOJ, a court or other tribunal, or another party before such tribunal, is relevant and necessary to the litigation, provided, however, that in each case, SSA determines that such disclosure is compatible with the purpose for which the records were collected.

We will disclose information under this routine use only as necessary to enable DOJ to effectively defend SSA, its components or employees in litigation involving the proposed new system of records and ensure that courts and other tribunals have appropriate information.

4. To the Equal Employment Opportunity Commission (EEOC) when requested in connection with investigations into alleged or possible discriminatory practices in the Federal sector, examination of Federal affirmative employment programs, compliance by Federal agencies with the Uniform Guidelines on Employee Selection Procedures, or other functions vested in the Commission.

We will disclose information to the EEOC, as necessary, to assist in reassessing individuals' requests for reasonable accommodation, to assist in investigations into alleged or possible discriminatory practices in the Federal sector, to combat and prevent fraud, waste and abuse under the Rehabilitation Act of 1973, and for other functions vested in the Commission.

5. To the Federal Labor Relations Authority, the General Counsel, the Federal Mediation and Conciliation Service, the Federal Service Impasses Panel, or an arbitrator, when information is requested in connection with investigations of allegations of unfair practices, matters before an arbitrator, or the Federal Impasses Panel.

We will disclose information about employees under this routine use, as necessary, to the Federal Labor Relations Authority, the General Counsel, the Federal Mediation and Conciliation Service, and the Federal Service Impasses Panel, or an arbitrator in which all or part of the allegations involve the Agency's providing reasonable accommodations for employees with disabilities.

6. To the Merit Systems Protection Board, or the Office of the Special Counsel, in connection with appeals, special studies of the civil service and other merit systems, review of rules and regulations, investigation of alleged or possible prohibited personnel practices, and other such functions promulgated in 5 U.S.C. Chapter 12, or as may be authorized by law.

We will disclose information about employees under this routine use, as necessary, to the Merit Systems Protection Board, or the Office of the Special Counsel, in which all or part of the allegations in the appeal or action involve the Agency's providing reasonable accommodations for employees with disabilities.

7. To contractors and other Federal agencies, as necessary, for the purpose of assisting SSA in the efficient administration of its programs. We will disclose information under this routine use only in situations in which SSA may enter into a contractual or similar agreement with a third party to assist in accomplishing an Agency function relating to this system of records.

We will disclose information under this routine use only in situations in which SSA may enter into a contractual agreement, or similar agreement, with a third party to assist in accomplishing an Agency function relating to this system of records.

8. To student volunteers, individuals working under a personal service contract, and other individuals performing functions for SSA, but technically not having the status of Agency employees, if they need access to the records in order to perform their assigned Agency functions.

Under certain Federal statutes, SSA is authorized to use the service of volunteers and participants in certain educational, training, employment and community service programs. Examples of such statutes and programs include: 5 U.S.C. 3111 regarding student volunteers and 42 U.S.C. 2753 regarding the College Work-Study Program. We contemplate disclosing information under this routine use only when SSA uses the services of these individuals and they need access to information in this system to perform their assigned Agency duties.

9. To the General Services Administration (GSA) and the National Archives and Records Administration (NARA) under 44 U.S.C. 2904 and 2906, as amended by the NARA Act of 1984, non-tax return information which is not restricted from disclosure by Federal law for use by those agencies in conducting records management studies.

The Administrator of GSA and the Archivist of NARA are charged by 44 U.S.C. 2904, as amended, with promulgating standards, procedures and guidelines regarding record management and conducting records management studies. 44 U.S.C. 2906, as amended, provides that GSA and NARA are to have access to Federal agencies' records and that agencies are to cooperate with GSA and NARA. In carrying out these responsibilities, it may be necessary for GSA and NARA to have access to this proposed system of records. In such instances, the routine use will facilitate disclosure.

10. To Federal, State, and local law enforcement agencies and private security contractors, as appropriate, information necessary:

• To enable them to protect the safety of SSA employees and customers, the security of the SSA workplace, and the operation of SSA facilities, or

• To assist investigations or prosecutions with respect to activities that affect such safety and security or activities that disrupts the operation of SSA facilities.

We will disclose information under this routine use to law enforcement agencies and private security contractors when information is needed to investigate, prevent, or respond to activities that jeopardize the security and safety of SSA customers, employees or workplaces, or that otherwise disrupt the operation of SSA facilities. Information would also be disclosed to assist in the prosecution of persons charged with violating Federal or local law in connection with such activities.

B. Compatibility of Proposed Routine Uses

The Privacy Act (5 U.S.C. 552a(b)(3)) and our disclosure regulations (20 CFR Part 401) permit us to disclose information under a published routine use for a purpose that is compatible with the purpose for which we collected the information. Section 401.150(c) of SSA Regulations permits us to disclose information under a routine use where necessary to carry out SSA programs. SSA Regulations at § 401.120 provide that we will disclose information when a law specifically requires the disclosure. The proposed routine uses numbered 1 through 8 and number 10 above will ensure efficient administration of the RAPD system; the disclosure that would be made under routine use number 9 is required by Federal law. Thus, all routine uses are appropriate and meet the relevant statutory and regulatory criteria.

III. Records Storage Medium and Safeguards for the Proposed New System Entitled the RAPD System

SSA will maintain information in the RAPD system in electronic and paper form. Only authorized SSA and contractor personnel who have a need for the information in the performance of their official duties will be permitted access to the information. We will safeguard the security of the information by requiring the use of access codes to enter the computer system that will maintain the data and by storing computerized records in secured areas that are accessible only to employees who require the information to perform their official duties. Any manually maintained records will be kept in locked cabinets or in otherwise secure areas.

Contractor personnel having access to data in the proposed system of records will be required to adhere to SSA rules concerning safeguards, access and use of the data.

SSA and contractor personnel having access to the data in this system will be informed of the criminal penalties of the Privacy Act for unauthorized access to or disclosure of information maintained in this system. See 5 U.S.C. 552a(i)(1).

IV. Effect of the Proposed New System of Records Entitled RAPD

The proposed new system of records will maintain only that information which is relevant in providing reasonable accommodations for persons with disabilities so that these individuals can perform the essential functions of their employment positions or other positions the individual seeks. Additionally, SSA will adhere to all applicable provisions of the Privacy Act, Social Security Act and other Federal statutes that govern our use and disclosure of the information. Thus, we do not anticipate that the proposed system of records will have an unwarranted effect on the privacy of the individuals that will be covered by the RAPD System.

Dated: October 19, 2005.
Jo Anne B. Barnhart,
Commissioner.

SYSTEM NUMBER:

60-0315

System name:

Reasonable Accommodation for Persons with Disabilities (RAPD), Social Security Administration, Deputy Commissioner for Human Resources.

Security classification:

None.

System location: In Headquarters:

Office of the Chief Actuary, Social Security Administration, 6401 Security Boulevard, Baltimore, Maryland 21235-6401.

Office of the Chief Information Officer, Social Security Administration, 6401 Security Boulevard, Baltimore, Maryland 21235-6401.

Office of the Chief Strategic Officer, Social Security Administration, 6401 Security Boulevard, Baltimore, Maryland 21235-6401.

Office of the General Counsel, Social Security Administration, 6401 Security Boulevard, Baltimore, Maryland 21235-6401.

Office of the Inspector General, Social Security Administration, 6401 Security Boulevard, Baltimore, Maryland 21235-6401.

Deputy Commissioner for Communications, Social Security Administration, 6401 Security Boulevard, Baltimore, Maryland 21235-6401.

Deputy Commissioner for Disability and Income Security Programs, Social Security Administration, 6401 Security Boulevard, Baltimore, Maryland 21235-6401.

Deputy Commissioner for Finance, Assessment and Management, Social Security Administration, 6401 Security Boulevard, Baltimore, Maryland 21235-6401.

Deputy Commissioner for Human Resources, Social Security Administration, 6401 Security Boulevard, Baltimore, Maryland 21235-6401.

Deputy Commissioner for Legislation and Congressional Affairs, Social Security Administration, 6401 Security Boulevard, Baltimore, Maryland 21235-6401.

Deputy Commissioner for Operations, Social Security Administration, 6401 Security Boulevard, Baltimore, Maryland 21235-6401.

Deputy Commissioner for Policy, Social Security Administration, 6401 Security Boulevard, Baltimore, Maryland 21235-6401.

Deputy Commissioner for Systems, Social Security Administration, 6401 Security Boulevard, Baltimore, Maryland 21235-6401.

For Office of Central Operations:

Manager, Civil Rights and Equal Opportunity Staff, Social Security Administration, Office of Central Operations, Room 7190 SWT, 1500 Woodlawn Drive, Baltimore, Maryland 21241.

Regional addresses:

Civil Rights and Equal Opportunity Regional Manager, Boston Region, Social Security Administration, Room 1900, John F. Kennedy Federal Building, Cambridge Street, Boston, Massachusetts 02203-1900.

Civil Rights and Equal Opportunity Regional Manager, New York Region, Social Security Administration, Room 40-100 Federal Building, 26 Federal Plaza, New York, New York 10278.

Civil Rights and Equal Opportunity Regional Manager, Philadelphia Region, Social Security Administration, 7th Floor, 300 Spring Garden Street, Philadelphia, Pennsylvania 19123.

Civil Rights and Equal Opportunity Regional Manager, Atlanta Region, Social Security Administration, Suite 22T64, 61 Forsyth Street, S.W., Atlanta Federal Center, Atlanta, Georgia 30303.

Civil Rights and Equal Opportunity Regional Manager, Chicago Region, Social Security Administration, 10th Floor, 600 West Madison Street, Chicago, Illinois 60661.

Civil Rights and Equal Opportunity Regional Manager, Dallas Region, Social Security Administration, Suite 500, 1301 Young Street, Dallas, Texas 75202.

Civil Rights and Equal Opportunity Regional Manager, Kansas City Region, Social Security Administration, Room 436, 601 East 12th Street, Kansas City, Missouri 64106.

Civil Rights and Equal Opportunity Regional Manager, Denver Region, Social Security Administration, Room 1468, 1961 Stout Street, Denver, Colorado 80294.

Civil Rights and Equal Opportunity Regional Manager, San Francisco Region, Social Security Administration, 6th Floor, 1221 Nevin Avenue, Richmond, California 94801.

Civil Rights and Equal Opportunity Regional Manager, Seattle Region, Social Security Administration, Suite 2900, Mail Stop 291A, 701 5th Avenue, Seattle, Washington 98104.

For Office of Hearings and Appeals:

Director, Equal Employment Opportunity Staff, Social Security Administration, Office of Hearings and Appeals, Suite 1700, One Skyline Tower, 5107 Leesburg Pike, Falls Church, Virginia 22041.

Categories of individuals covered by the system:

Employees who have requested a reasonable accommodation.

Categories of records in the system:

The records maintained in this system of records are collected for all reasonable accommodation (RA) requests made by employees. Specifically:

• The employee's name, Social Security number (SSN), number and types of RA requests and whether those requests have been granted or denied;

• Medical documentation about the disability;

• Occupational series, grade level and Agency component for which RAs have been requested;

• Types of RAs for each job, by Agency component, that have been approved, and the number and types of RA requests that relate to the benefits or privileges of employment, and whether those requests have been granted or denied;

• Reasons for denial of requests for RA;

• Amount of time taken to process each request for RA; and

• Sources of technical assistance that have been consulted in identifying possible RAs.

Authority for maintenance of the system:

The Rehabilitation Act of 1974, as amended, 29 U.S.C. 791; Executive Order (E.O.) 13164; Equal Employment Opportunity Commission's Policy Guidance on E.O. 13164; Establishing Procedures to Facilitate the Provisions of Reasonable Accommodation; Directives Transmittal Number 915.003, October 20, 2000.

Purpose(s):

Information in this system will be used to provide RAs to qualified employees with disabilities. SSA will provide RAs when:

• A qualified individual with a disability needs an accommodation to be considered for a job;

• A qualified employee with a disability needs an accommodation to enable him or her to perform the essential functions of the job or to gain access to the workplace; and

• A qualified employee with a disability needs an accommodation to enjoy equal benefits and privileges of employment.

Routine uses of records maintained in the system, including categories of users and the purpose of such uses:

Disclosure may be made for routine uses as indicated below.

1.To the Office of the President for the purpose of responding to an individual pursuant to an inquiry received from that individual or from a third party on his or her behalf. 2. To a congressional office in response to an inquiry from that office made at the request of the subject of a record. 3. To the Department of Justice (DOJ), a court or other tribunal, or another party before such tribunal when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is party to litigation or has an interest in such litigation, and SSA determines that the use of such records by DOJ, a court or other tribunal, or another party before such tribunal, is relevant and necessary to the litigation, provided, however, that in each case, SSA determines that such disclosure is compatible with the purpose for which the records were collected.

4. To the Equal Employment Opportunity Commission (EEOC) when requested in connection with investigations into alleged or possible discriminatory practices in the Federal sector, examination of Federal affirmative employment programs, compliance by Federal agencies with the Uniform Guidelines on Employee Selection Procedures, or other functions vested in the Commission.

5. To the Federal Labor Relations Authority, the General Counsel, the Federal Mediation and Conciliation Service, the Federal Service Impasses Panel, or an arbitrator when information is requested in connection with the investigations of allegations of unfair practices, matters before an arbitrator or the Federal Impasses Panel.

6. To the Merit Systems Protection Board or the Office of the Special Counsel in connection with appeals, special studies of the civil service and other merit systems, review of rules and regulations, investigation of alleged or possible prohibited personnel practices, and other such functions promulgated in 5 U.S.C. Chapter 12, or as may be authorized by law.

7. To contractors and other Federal agencies, as necessary, for the purpose of assisting SSA in the efficient administration of its programs. We contemplate disclosing information under this routine use only in situations in which SSA may enter into a contractual, or similar agreement, with a third party to assist in accomplishing an Agency function relating to this system of records.

8. To student volunteer individuals working under a personal services contract, and other individuals performing functions for SSA, but technically not having the status of agency employees, if they need access to the records in order to perform their assigned agency functions.

9. To the General Services Administration (GSA) and the National Archives and Records Administration (NARA) under 44 U.S.C. § 2904 and § 2906, as amended by the NARA Act of 1984, non-tax return information which is not restricted from disclosure by federal law for the use of those agencies in conducting records management studies.

10. To Federal, State, and local law enforcement agencies and private security contractors, as appropriate, information necessary:

• to enable them to protect the safety of SSA employees and customers, the security of the SSA workplace, the operation of SSA facilities, or

• to assist investigations or prosecutions with respect to activities that affect such safety and security or activities that disrupts the operation of SSA facilities.

Policies and practices for storing, retrieving, accessing, retaining and disposing of records in the system:

Storage:

Records in this system are maintained and stored in both electronic and paper form at the systems locations identified above.

Retrievability:

Records in this system are retrieved by the employee's name and/or SSN.

Safeguards:

Security measures include the use of access codes to enter the computer system which will maintain the data and by storing computerized records in secured areas which are accessible only to employees who require the information in performing their official duties. Any manually maintained records will be kept in locked cabinets or in otherwise secure areas. SSA employees who have access to the data will be informed of the criminal penalties of the Privacy Act for unauthorized access to, or disclosure of, information maintained in the system. See 5 U.S.C. 552a(i)(1).

Contractor personnel having access to data in the system of records will be required to adhere to SSA rules concerning safeguards, access and use of the data.

Retention and disposal:

Records and data created, received, maintained for purposes of tracking agency compliance with Executive Order 13164 and the Equal Employment Opportunity Commission guidance, will be deleted/destroyed in accordance with NARA GRS 1, Sec. 24.

System manager(s):

Deputy Commissioner for Human Resources, Associate Commissioner, Office of Civil Rights and Equal Opportunity, Social Security Administration, 6401 Security Boulevard, Baltimore, Maryland 21235-6401.

Notification procedure(s):

An individual can determine if this system contains a record about him/her by writing to the systems manager(s) at the above address and providing his/her name, SSN, or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. The individual will be required to submit a request in writing or in person if it is determined that the identifying information provided by telephone is insufficient. If an individual is requesting information by telephone on behalf of another individual, the subject individual must be connected with SSA and the requesting individual in the same phone call. SSA will establish the subject individual's identity (his/her name, SSN, address, date of birth, and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

An individual who requests access to his or her medical records must also name a representative in writing. The representative may be a physician, other health professional, or other responsible individual, who would be willing to explain the contents of the medical record(s) before giving the entire medical record(s) to the individual. These procedures are in accordance with SSA Regulation (20 CFR 401.55).

Record access procedure(s):

Same as Notification procedures. Requesters should also reasonably specify the record contents they are seeking. These procedures are in accordance with SSA Regulations (20 CFR 401.50).

Contesting record procedure(s):

Same as Notification procedures. Requesters should also reasonably identify the record, specify the information they are contesting, and state the corrective action sought, and the reasons for the correction, with supporting justification showing how the record is untimely, incomplete, inaccurate, or irrelevant. These procedures are in accordance with SSA Regulations (20 CFR 401.65).

Record source categories:

Information in this system is supplied directly by the requesting individuals and SSA officials.

Systems exempt from certain provisions of the Privacy Act:

None.

[FR Doc. 05-21491 Filed 10-27-05; 8:45 am]

BILLING CODE 4191-02-P